OFFICE OF MANAGEMENT AND BUDGET

Maritime Regulatory Reform

AGENCY: Office of Information and Regulatory Affairs, Office of Management and Budget.

ACTION: Request for information (RFI).

SUMMARY: Consistent with Executive Order 12866 and the Regulatory Right to Know Act, the Office of Information and Regulatory Affairs (OIRA), within the Office of Management and Budget is seeking public input on how the Federal government may prudently manage regulatory costs imposed on the maritime sector. Multiple Federal agencies regulate the U.S. maritime sector consistent with their statutory authorities. OIRA seeks public comment on how existing agency requirements affecting the maritime sector can be modified or repealed to increase efficiency, reduce or eliminate unnecessary or unjustified regulatory burdens, or simplify regulatory compliance while continuing to meet statutory missions. This RFI is meant to inform agencies' development of regulatory reform proposals. Additionally, OIRA intends to make all submissions publicly available on www.regulations.gov.

DATES: Written comments and information are requested on or before July 16, 2018.

ADDRESSES: Interested persons are encouraged to submit comments, identified by “Maritime Regulatory Reform RFI,” by any of the following methods: Federal Rulemaking Portal: http://www.regulations.gov. Follow the instructions for submitting comments. Email: OMB.DeregulatoryRFI@OMB.eop.gov. Include “Maritime Regulatory Reform RFI” in the subject line of the message.

FOR FURTHER INFORMATION CONTACT: Shannon Joyce, Office of Information and Regulatory Affairs, 725 17th Street NW, Washington, DC 20503. Telephone: 202-395-5897.

SUPPLEMENTARY INFORMATION:

I. Background

A. Executive Order 13771

On January 30, 2017, the President issued Executive Order 13771, “Reducing Regulation and Controlling Regulatory Costs.” That Order stated, “[T]he policy of the executive branch is to be prudent and financially responsible in the expenditure of funds, from both public and private sources.” The Order stated, “[I]t is essential to manage the costs associated with the governmental imposition of private expenditures required to comply with Federal regulations.” On February 24, 2017, the President issued Executive Order 13777, “Enforcing the Regulatory Reform Agenda.” The Order, among other things, directed each agency to establish a Regulatory Reform Task Force (RRTF) to make recommendations to the agency head regarding the repeal, replacement, or modification of existing regulations, consistent with applicable law. At a minimum, each RRTF is directed to attempt to identify regulations that:

(i) Eliminate jobs, or inhibit job creation;

(ii) are outdated, unnecessary, or ineffective;

(iii) impose costs that exceed benefits;

(iv) create a serious inconsistency or otherwise interfere with regulatory reform initiatives and policies;

(v) are inconsistent with the requirements of Information Quality Act, or the guidance issued pursuant to that Act, in particular those regulations that rely in whole or in part on data, information, or methods that are not publicly available or that are insufficiently transparent to meet the standard for reproducibility; or

(vi) derived from or implement Executive Orders or other Presidential directives that have been subsequently rescinded or substantially modified.

Although agencies are directed by Executive Order 12866 to promulgate rules “only upon a reasoned determination that the benefits of the intended regulation justify its costs,” it is difficult to predict all of the consequences of a rule, including its costs and benefits, until it has been put into place. In addition, circumstances surrounding a rule often change because of changes in technology, information availability, market conditions, or other reasons. The regulatory programs of two agencies may apply to the same population in a way that is redundant, or the programs of one agency may complicate compliance with the programs of another agency as an unintended consequence.

To facilitate implementation of these Executive Orders in the maritime sector, OIRA is seeking public comment on how best to achieve meaningful burden reduction in the maritime sector—across all agencies operating in this space—while continuing to fulfill agencies' statutory responsibilities and objectives. OIRA is also interested in understanding how regulations from the United States might be better coordinated with the regulations and requirements of other countries, especially Canada and Mexico, in shared bodies of water. Although some agencies that regulate the maritime sector have previously sought regulatory reform ideas, this RFI seeks broader input on regulations across all agencies regulating the maritime sector. OIRA intends to communicate regulatory reform suggestions suggested by the public to the RRTFs at the appropriate federal agencies for their consideration and to aid the agencies in the coordination of interagency streamlining of regulatory requirements.

B. Definition of the Maritime Sector

For purposes of this initiative, the maritime sector includes all enterprises related to maritime commerce, including: (1) Designing, building, acquiring, repairing, or scrapping vessels; (2) operating, manning, or maintaining vessels, port facilities, or shipyards; (3) operating shipping lines, customs brokerage services, shipping and freight forwarding services, or maritime activities related to resource extraction, renewable energy, cable laying, or marine research.

OIRA is particularly interested in learning more about experiences with regulations involving cargo or passenger vessels, but welcomes any comment falling under the definition above.

The maritime sector is subject to regulation by multiple federal agencies, including but not limited to, the Federal Maritime Commission, the Department of Transportation, the Department of Homeland Security, the Department of Defense, the Department of Labor, the Department of Commerce, the Environmental Protection Agency, the Council on Environmental Quality, and the Department of the Interior.

II. Request for Information

OIRA seeks information from members of the public on maritime regulations promulgated by agencies of the Federal government. The goal is to identify existing rules that are inefficient, obsolete, unnecessary, redundant, or otherwise not justified. OIRA seeks views from the public on specific rules or information requirements that should be altered, streamlined, or eliminated.

To allow OIRA to more effectively evaluate maritime regulatory reform suggestions, OIRA requests that comments include:

• Supporting data or other information such as cost information;

• Specific suggestions regarding repeal, replacement, or modification, including, if possible, citations to the relevant sections of the Code of Federal Regulations;

• Insight into the experiences of the regulated public regarding regulatory redundancy, compliance inefficiencies, outdated requirements, etc.;

• Information regarding difficulties for small- and medium-sized enterprises that may not have been initially taken into consideration when the regulatory program was promulgated; or

• Information regarding the possibility of increased regulatory cooperation between the United States and foreign partners, especially Canada and Mexico, to relieve burden on the industry.

OIRA provides the following list of questions to guide public input. This non-exhaustive list is meant to assist in the formulation of comments and is not intended to restrict the issues that may be addressed. In addressing these questions or others, OIRA requests that commenters specify the regulation, guidance document, or form or reporting requirement at issue, providing legal citation or form number where known and available. OIRA also requests that commenters provide, in as much detail as possible, an explanation of why the regulatory requirement should be modified, streamlined, or repealed, as well as specific suggestions of ways agencies can do so while achieving their regulatory objectives.

(1) Are there regulations that have become unnecessary, ineffective, or are no longer justified, and if so what are they (e.g., vessel equipment, manning, or reporting requirements)?

(2) Are there rules or reporting requirements that have become outdated and, if so, how can they be modernized to better accomplish their objective?

(3) Are there requirements (e.g. flagging, certification, or training rules) that could be streamlined, reduced, or provided in an easier-to-access manner, such as online training and certification?

(4) Are there rules from different agencies that involve similar, overlapping activities such as training, drills, or inspections that might be consolidated or coordinated to reduce the regulatory burden on the industry?

(5) Are there reporting or other information collection requirements imposed by multiple regulatory agencies that involve similar, overlapping reporting that might be consolidated or coordinated to reduce the regulatory burden on the industry?

(6) Are there rules or reporting requirements imposed by the United States and other countries—especially Canada and Mexico—that are inconsistent with one another to the point of creating barriers to commerce? Are there reporting requirements between Canada and the United States, particularly on the Great Lakes, that are similar to the point that the two countries may be able to share information, to the extent permissible by law, to reduce the burden on industry?

(7) Are there rules that have not achieved their intended purpose or otherwise not operating as well as expected such that a modified, or different approach at lower cost should be considered?

(8) Are there rules that are preventing or creating barriers to the adoption of new, innovative technologies in the maritime industry?

(9) Are there rules preventing, curtailing, or causing the decision to outsource maritime related activities that would otherwise add value to the domestic economy? What types of economically beneficial maritime activities might be animated if these rules were abolished?

(10) Do agencies currently collect information that they do not need or use effectively?

(11) Are there regulations, reporting requirements, or regulatory processes that are unnecessarily complicated that could be made more efficient?

(12) Are there rules or reporting requirements that have been overtaken by technological developments? Can new technologies be leveraged to modify, streamline, or do away with existing regulatory or reporting requirements?

(13) How can agencies that regulate the maritime sector best reduce regulatory costs while achieving the agencies' statutory objectives, and how can they best identify those rules that might be modified, streamlined, or repealed?

(14) What factors should agencies consider in selecting and prioritizing rules and reporting requirements for reform?

(15) How can agencies obtain and analyze accurate, objective information and data about the costs and benefits of existing regulations? Are there existing sources of data to use to evaluate the current effects of regulations?

This RFI is meant to inform agencies' development of regulatory reform proposals. OIRA intends to make all submissions publicly available on www.regulations.gov.

Neomi Rao,
Administrator, Office of Information and Regulatory Affairs.

[FR Doc. 2018-10539 Filed 5-16-18; 8:45 am]

BILLING CODE 3110-01-P